COURT SERVICES AND OFFENDER SUPERVISION AGENCY FOR THE DISTRICT OF COLUMBIA

28 CFR Part 801

[CSOSA-0004-P]

RIN 3225-AA02

Federal Tort Claims Act Procedures

AGENCY: Court Services and Offender Supervision Agency for the District of Columbia.

ACTION: Proposed rule.

SUMMARY: In this document, the Court Services and Offender Supervision Agency for the District of Columbia (“CSOSA” or “Agency”) is proposing to adopt regulations to supplement Department of Justice regulations for processing administrative claims under the Federal Tort Claims Act (“FTCA”). These supplemental regulations state in plain language what members of the public need to do to file a claim for money damages under the FTCA with CSOSA or with the District of Columbia Pretrial Services Agency (“PSA” or “Agency”). These regulations are necessary to help ensure that persons who suffer proven monetary loss, personal injury, or wrongful death due to a negligent or otherwise wrongful act or omission of an Agency employee committed while acting within the scope of his or her employment will be properly compensated.

DATES: Comments due by January 22, 2002.

ADDRESSES: Office of the General Counsel, CSOSA, Room 1253, 633 Indiana Avenue, NW., Washington, DC 20004.

FOR FURTHER INFORMATION CONTACT: Roy Nanovic, Records Manager (telephone: (202) 220-5359; e-mail: roy.nanovic@csosa.gov).

SUPPLEMENTARY INFORMATION: The Court Services and Offender Supervision Agency for the District of Columbia (“CSOSA”) is proposing to adopt regulations (28 CFR part 801) supplementing Department of Justice regulations (28 CFR part 14) for processing administrative claims under the Federal Tort Claims Act (“FTCA”). CSOSA previously published its organizational regulations (28 CFR part 800) in the Federal Register on January 8, 2001 (66 FR 1259). As noted in these organizational regulations, the District of Columbia Pretrial Services Agency (“PSA” or “Agency”) is an independent entity within CSOSA. CSOSA's supplemental regulations will be applicable for claims involving CSOSA and/or PSA.

The FTCA essentially waives the federal government's sovereign immunity to damage actions arising out of the negligent or otherwise wrongful acts committed by federal employees while acting within the scope of their employment. General regulations issued by the Department of Justice for processing FTCA claims authorize federal agencies to issue supplementing regulations. Accordingly, CSOSA has prepared these supplemental regulations to state in plain language what members of the public need to do to file a claim for money damages under the FTCA due to a negligent or otherwise wrongful act of a CSOSA or PSA employee committed while acting within the scope of his or her employment. Separate administrative procedures exist for claims by employees of CSOSA or PSA for loss or damage to property incident to their own service.

Directions for filing the claim are contained in § 801.2. The directions are presented in a question and answer format. The easiest way to make sure that a person with a claim includes all information necessary for processing the claim is to submit a completed Standard Form 95 (“SF 95”). The SF 95 is available both online and from CSOSA's Office of the General Counsel. Other means of written notification, however, may be acceptable as noted in the regulations.

Section 801.3 explains how claims are processed. All claims, whether against CSOSA or PSA, are forwarded to CSOSA's Office of the General Counsel for intake, investigation, and final determination. Section 801.4 covers the claim's final disposition (acceptance of settlement or denial of claim). If you accept a settlement offer, you give up your right to bring a lawsuit against the United States or against the employee whose action or lack of action gave rise to your claim. If your claim is denied or you reject the settlement offer, you have 6 months to file a civil action in the appropriate U.S. District Court.

Matters of Regulatory Procedure

Administrative Procedure Act

Interested persons may participate in this proposed rulemaking by submitting data, views, or arguments in writing or by e-mailing the agency at the addresses given above in the ADDRESSES and FOR FURTHER INFORMATION CONTACT captions. Comments received during the comment period will be considered before final action is taken. Comments received after the expiration of the comment period will be considered to the extent practicable. All comments received remain on file for public inspection at the above address. The proposed rule may be changed in light of the comments received. We will not be holding oral hearings on this proceeding.

Executive Order 12866

This proposed rule has been determined to be significant under Executive Order 12866 and has been reviewed by the Office of Management and Budget.

Executive Order 13132

This rule will not have substantial direct effects on the States, on the relationship between the national government and the States, or on the distribution of power and responsibilities among the various levels of government. Therefore, in accordance with Executive Order 13132, the Director of CSOSA has determined that this rule does not have sufficient federalism implications to warrant the preparation of a Federalism Assessment.

Regulatory Flexibility Act

The Director of CSOSA, in accordance with the Regulatory Flexibility Act (5 U.S.C. 605(b)), has reviewed this rule and by approving it certifies that this rule will not have a significant economic impact upon a substantial number of small entities. This rule pertains to agency management, and its economic impact is limited to the agency's appropriated funds.

Unfunded Mandates Reform Act of 1995

This rule will not result in the expenditure by State, local and tribal governments, in the aggregate, or by the private sector, of $100,000,000 or more in any one year, and it will not significantly or uniquely affect small governments. Therefore, the Director of CSOSA has determined that no actions are necessary under the provisions of the Unfunded Mandates Reform Act of 1995.

Small Business Regulatory Enforcement Fairness Act of 1996

This rule is not a major rule as defined by sec. 804 of the Small Business Regulatory Enforcement Fairness Act of 1996. This rule will not result in an annual effect on the economy of $100,000,000 or more; a major increase in costs or prices; or significant adverse effects on competition, employment, investment, productivity, innovation, or on the ability of United States-based companies to compete with foreign-based companies in domestic and export markets.

Plain Language Instructions

We want to make CSOSA's documents easy to read and understand. If you have suggestions on how to improve the clarity of these regulations, write, e-mail, or call CSOSA's Records Manager (Roy Nanovic) at the address or telephone number given above in the ADDRESSES and FOR FURTHER INFORMATION CONTACT captions.

List of Subjects in 28 CFR Part 801

Claims, Probation and parole.

Jasper Ormond,
Interim Director.

Accordingly, we propose to amend chapter VIII, Title 28 of the Code of Federal Regulations by adding a new part 801 to read as follows:

PART 801—FEDERAL TORT CLAIMS ACT PROCEDURES

Sec.
801.1 Claims filed under the Federal Tort Claims Act.
801.2 Filing a claim.
801.3 Processing the claim.
801.4 Final disposition of claim.

Authority: 5 U.S.C. 301; Pub. L. 105-33, 111 Stat. 251, 712 (D.C. Code 24-1233); 28 CFR 14.11.

§ 801.1 Claims filed under the Federal Tort Claims Act.

If an agency employee is acting within the scope of his or her employment and causes injury to a member of the public, any claim for money damages for personal injury, death, damage to property, or loss of property caused by the employee's negligent or wrongful act or omission is a claim against the United States and must first be presented by the injured party to the appropriate federal agency for administrative action under the Federal Tort Claims Act. General provisions for processing such administrative claims are contained in 28 CFR part 14. The provisions in this part supplement the general provisions in order to describe specific procedures to follow when filing a claim with the Court Services and Offender Supervision Agency for the District of Columbia (“CSOSA”) or the District of Columbia Pretrial Services Agency (“PSA”).

§ 801.2 Filing a claim.

(a) Who may file the claim? You may file a claim for money damages against CSOSA or PSA if you believe that a CSOSA or PSA employee has injured you or has damaged or lost property that you own. You may file a claim on behalf of an injured or deceased person or owner of damaged or lost property if you are acting as agent, executor, administrator, parent, guardian, legal or other representative provided you submit evidence of your authority to act on behalf of the claimant.

(b) What information do you need to submit in your claim? (1) The easiest way to ensure that you will include all necessary information for your claim is to submit a completed Standard Form 95 (“SF 95”). The SF 95 is available from the Office of the General Counsel, CSOSA, (see address in paragraph (c) of this section) and on the Internet at http://www.usdoj.gov/civil/forms/forms.htm.

(2) If you do not use the SF 95, you must submit written notification of the incident that resulted in the injury, loss, or damage. Along with this notification, you must present a claim for money damages in a sum certain (that is, a precise dollar amount) for injury to or loss of property, personal injury, or death alleged to have occurred on the basis of the incident. Failure to include the precise dollar amount for your claim may mean that you will have difficulty with pursuing your claim in court.

(c) Where do you submit the claim? You should submit the claim (whether against CSOSA or PSA) directly to the Office of the General Counsel, CSOSA, 633 Indiana Avenue NW., Washington, DC 20004. Claims submitted to any other office of CSOSA or PSA are forwarded to the Office of the General Counsel.

(d) When must you submit the claim? You must submit the claim so that CSOSA/PSA receives the claim within 2 years after the claim accrues. Mailing the claim by that date is not sufficient if CSOSA/PSA does not receive the claim by that date. Generally speaking, a claim accrues at the time of the injury. In those instances where neither the injury nor its cause is immediately apparent, the claim accrues when you discover (or reasonably should discover) the injury and its cause.

(e) May you amend your claim? Yes, you may amend your claim at any time prior to final agency action or prior to your filing suit in court.

§ 801.3 Processing the claim.

(a) Will CSOSA/PSA contact you about your claim? (1) If you have provided all necessary information to process your claim, you will receive an acknowledgement indicating the filing date (that is, the date CSOSA/PSA received your claim) and the assigned claim number. Refer to the claim number in any further correspondence you may have with CSOSA/PSA on the claim.

(2) If you have failed to include all necessary information, CSOSA/PSA will return your claim to you with a request for the necessary additional information.

(3) If your claim should have been filed with another agency, CSOSA/PSA will forward the claim to the appropriate agency and notify you of the transfer, or return the claim to you if the appropriate agency cannot be determined or if the transfer is otherwise not feasible.

(b) Who is responsible for offering settlement or denial on the claim? The General Counsel is responsible for investigating the claim and, after consultation with PSA (if the claim is against PSA) and the Department of Justice when appropriate, determining whether the claim should be settled or denied.

(c) How long does CSOSA/PSA have to consider your claim? CSOSA/PSA has 6 months from the date of filing to make a settlement offer or to deny your claim. If you amend your claim (see § 801.2(e)) or request that your claim be reconsidered (see § 801.4(b)(1)), CSOSA/PSA has an additional 6 months from the date of the amendment or the filing of the request for reconsideration to make a final disposition of the claim.

(d) Will appreciation or depreciation be considered? Yes, appreciation or depreciation is considered in settling a claim for lost or damaged property.

§ 801.4 Final disposition of claim.

(a) What if you accept the settlement offer? If you accept a settlement offer, you give up your right to bring a lawsuit against the United States or against any employee of the government whose action or lack of action gave rise to your claim.

(b) What if your claim is denied? (1) If your claim is denied, you have 30 days from the date of CSOSA/PSA's written notification to make a written request that the agency reconsider the denial.

(2) If your claim is denied or you reject the settlement offer, you have 6 months from the date of mailing of CSOSA/PSA's notice of denial to file a civil action in the appropriate U.S. District Court.

(c) What if you do not hear from CSOSA/PSA within 6 months of the filing date? If you do not hear from CSOSA/PSA within 6 months of the filing date for the claim, you may consider your claim denied. You may then proceed with filing a civil action in the appropriate U.S. District Court.

[FR Doc. 01-28944 Filed 11-19-01; 8:45 am]

BILLING CODE 3129-01-P